ENVIRONMENTAL PROTECTION AGENCY

40 CFR Part 112

[FRL-7003-1]

RIN 2050-AE64

Oil Pollution Prevention and Response; Non-Transportation-Related Facilities

AGENCY: Environmental Protection Agency (EPA).

ACTION: Final rule; technical correction.

SUMMARY: EPA issued a final rule in the Federal Register of June 30, 2000, revising requirements for facilities preparing Facility Response Plans. This document is being issued to correct typographical errors, remove inconsistent rule language, and change incorrect references in the rule.

EFFECTIVE DATE: June 29, 2001.

FOR FURTHER INFORMATION CONTACT: Barbara Davis, Oil Program Center, U.S. Environmental Protection Agency, at 703-603-8823 (davis.barbara@epamail.epa.gov); or the RCRA/Superfund Hotline at 800-424-9346 (in the Washington, DC metropolitan area, 703-412-9810). The Telecommunications Device for the Deaf (TDD) Hotline number is 800-553-7672 (in the Washington, DC metropolitan area, 703-412-3323).

SUPPLEMENTARY INFORMATION:

I. Does This Action Apply to Me?

Non-transportation related facilities handling, storing, or transporting oil that are considered “significant and substantial harm,” as well as certain other facilities designated by the Regional Administrator, must submit Facility Response Plans (FRPs) to the Agency. The Agency included in the final rule a more detailed description of which facilities are potentially affected by this action. If you have questions regarding the applicability of this action to a particular entity, consult the person listed under FOR FURTHER INFORMATION CONTACT.

II. How Can I Get Additional Information, Including Copies of This Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control number SPCC-9P. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Superfund Docket, Suite 105, 1235 Jefferson Davis Highway, Crystal Gateway I, Arlington, VA 22202. You may inspect the docket between 9 a.m. and 4 p.m., Monday through Friday, excluding Federal holidays; and you may make an appointment to review the docket by calling 703-603-9232. You may copy a maximum of 266 pages from any regulatory docket at no cost. If the number of pages copied exceeds 266, however, you will be charged an administrative fee of $25 and a charge of $0.15 per page for each page after 266. The docket will mail materials to you if you are outside of the Washington, DC metropolitan area.

III. What Does This Technical Correction Do?

A final rule revising the facility response plan requirements for non-transportation related facilities handling, storing, or transporting animal fats or vegetable oils was published in the Federal Register of June 30, 2000 (65 FR 40776). This correction is being published to:

Correct minor typographical errors in §§ 112.20 and 112.21, and appendix E;

Correct the inadvertent reference to “petroleum oils” in section 8.2.1 of appendix E (this section is about animal fats and vegetable oils rather than petroleum oils, as shown in the title in section 8.0);

Remove inconsistent language and combine sections 9.2 and 9.2.1 of appendix E, which describe USCG planning levels corresponding to EPA's medium discharge;

Clarify that the first line of the table in section 10.5.2 of appendix E contains the factor by which you multiply the planning volume on water (a multiplication sign was inadvertently omitted);

Correct the inadvertent omission of the operating area “Great Lakes” in the column heading with Nearshore and Inland on Table 2 to appendix E;

Correct the USCG fax number in section 1.8.3 of appendix F.

IV. Why Is This Technical Correction Issued as a Final Rule?

EPA is publishing this action as a final rule without prior notice and opportunity to comment because the Agency believes that providing notice and an opportunity to comment is unnecessary and would be contrary to the public interest. As explained above, the correction contained in this action will simply correct § 112.20 and its appendices by correcting typographical errors, removing inconsistent rule language, and changing incorrect references in the rule. EPA therefore finds that there is “good cause” under section 553(b)(3)(B) of the Administrative Procedure Act (APA) (5 U.S.C. 553) to make this amendment without prior notice and comment.

V. Do Any of the Regulatory Assessment Requirements Apply to This Action?

No. This final rule implements technical corrections to the Code of Federal Regulations (CFR), and does not impose any new requirements.

Under Executive Order 12866, entitled Regulatory Planning and Review (58 FR 51735, October 4, 1993), the Office of Management and Budget (OMB) has determined that a technical correction is not a “significant regulatory action” subject to review by OMB.

Because this action is not economically significant as defined by section 3(f) of Executive Order 12866, this action is not subject to Executive Order 13045, entitled Protection of Children from Environmental Health Risks and Safety Risks (62 FR 19885, April 23, 1997).

This action will not result in environmental justice related issues and does not, therefore, require special consideration under Executive Order 12898, entitled Federal Actions to Address Environmental Justice in Minority Populations and Low-Income Populations (59 FR 7629, February 16, 1994).

Since the Agency has made a “good cause” finding that this action is not subject to notice-and-comment requirements under the APA or any other statute (see Unit IV.), this action is not subject to the regulatory flexibility provisions of the Regulatory Flexibility Act (RFA) (5 U.S.C. 601 et seq.), or to sections 202 and 205 of the Unfunded Mandates Reform Act of 1995 (UMRA) (Public Law 104-4). In addition, this action does not significantly or uniquely affect small governments or impose a significant intergovernmental mandate, as described in sections 203 and 204 of UMRA.

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This final rule does not have tribal implications. It will not have substantial direct effects on tribal governments, on the relationship between the Federal government and Indian tribes, or on the distribution of power and responsibilities between the Federal government and Indian tribes, as specified in Executive Order 13175. This is so because this final rule only corrects mistakes in a rule which EPA issued in June 2000. It imposes no new regulatory requirements; nor does the rule announce new policies. Thus, Executive Order 13175 does not apply to this rule.

This rule will not have substantial direct effects on the States, on the relationship between the national government and the States, or on the distribution of power and responsibilities among the various levels of government, as specified in Executive Order 13132, entitled Federalism (64 FR 43255, August 10, 1999).

This action does not involve any technical standards that require the Agency's consideration of voluntary consensus standards pursuant to section 12(d) of the National Technology Transfer and Advancement Act of 1995 (NTTAA), Public Law 104-113, section 12(d) (15 U.S.C. 272 note).

This rule does not contain any information collection requirements that require review and approval by OMB pursuant to the Paperwork Reduction Act of 1995 (PRA) (44 U.S.C. 3501 et seq.).

EPA's compliance with these statutes and Executive Orders for the underlying rule is discussed in section IV (Regulatory Analyses) of the final rule (65 FR 40776, June 30, 2000).

VI. Will EPA Submit This Final Rule to Congress and the Comptroller General?

Yes. The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefore, and established an effective date of June 29, 2001. EPA will submit a report containing this rule and other required information to the U.S. Senate, the U.S. House of Representatives, and the Comptroller General of the United States prior to publication of the rule in the Federal Register. This action is not a “major rule” as defined by 5 U.S.C. 804(2).

List of Subjects in 40 CFR Part 112

Environmental protection, Oil pollution, Penalties, Reporting and recordkeeping requirements.

Dated: June 14, 2001.
Michael H. Shapiro,
Acting Assistant Administrator, Office of Solid Waste and Emergency Response.

Therefore, 40 CFR part 112 is amended as follows:

PART 112—OIL POLLUTION PREVENTION

1. The authority citation for part 112 continues to read as follows:

Authority: 33 U.S.C. 1251 et seq.; 33 U.S.C. 2720; E.O. 12777 (October 18, 1991), 3 CFR, 1991 Comp., p. 351.

§ 112.20 [Amended]

2. Amend the third sentence of paragraph (a)(4)(iii) of § 112.20 by revising “paragraphs (a)(2)(iii) or (iv)” to read “paragraph (a)(2)(iii) or (iv)”.

3. Amend appendix E to part 112 by:

a. Revising “Petroleum oils and non-petroleum oils other than animal fats and vegetable oils” to read “Petroleum Oils and Non-Petroleum Oils Other Than Animal Fats and Vegetable Oils” in sections 3.0 and 4.0;

b. Revising “near shore” to read “nearshore” in the last sentence of section 7.7, the last sentence of section 10.2.3, and the last sentence of section 10.7;

c. Revising “petroleum” to read “animal fats and vegetable” in the last sentence of section 8.2.1;

d. Removing section 9.2.1 and revising section 9.2 to read as set forth below;

e. Revising section 10.5.2 to read as set forth below;

f. Revising “Near shore” to read “Nearshore” in section 10.5.4; and

g. Revising “Environments’ ” to read “Environments” in section 13.3(2).

The revisions read as follows:

Appendix E to Part 112—Determination and Evaluation of Required Response Resources for Facility Response Plans

* * * * *

9.0 Determining Response Resources Required for Medium Discharges—Animal Fats and Vegetable Oils

* * * * *

9.2 Complexes that are regulated by EPA and the USCG must also consider planning quantities for the transportation-related transfer portion of the facility. Owners or operators of complexes that handle, store, or transport animal fats or vegetable oils must plan for oil discharge volumes for a medium discharge. For non-petroleum oils, there is no USCG planning level that directly corresponds to EPA's “medium discharge.” Although the USCG does not have planning requirements for medium discharges, they do have requirements (at 33 CFR 154.545) to identify equipment to contain oil resulting from an operational discharge.

* * * * *

10.0 Calculating Planning Volumes for a Worst Case Discharge—Animal Fats and Vegetable Oils.

* * * * *

10.5.2 With a specific worst case discharge identified, the planning volume for on-water recovery can be identified as follows:

Worst case discharge: 21 million gallons (500,000 barrels) of Group B vegetable oil

Operating Area: Inland

Planned percent recovered floating vegetable oil (from Table 6, column Nearshore/Inland/Great Lakes): Inland, Group B is 20%

Emulsion factor (from Table 7): 2.0

Planning volumes for on-water recovery: 21,000,000 gallons × 0.2 × 2.0 = 8,400,000 gallons or 200,000 barrels.

Determine required resources for on-water recovery for each of the three tiers using mobilization factors (from Table 4, column Inland/Nearshore/Great Lakes)

Inland Operating Area | Tier 1 | Tier 2 | Tier 3
Mobilization factor by which you multiply planning volume | .15 | .25 | .40
Estimated Daily Recovery Capacity (bbls) | 30,000 | 50,000 | 80,000

* * * * *

4. Amend Tables 2, 6, and 7 to appendix E to Part 112 by:

a. Revising “Oil” to read “oil” in the heading of the middle column under Rivers and canals in Table 2;

b. Revising “Near shore/Inland” to read “Nearshore/Inland/Great Lakes” in the heading of the column in Table 2;

c. Revising “Near shore/Inland Great Lakes” to read “Nearshore/Inland/Great Lakes” in the heading of the column in Table 6; and

d. Revising “section 1.2.1 and 1.2.9” to read “sections 1.2.1 and 1.2.9” in the Note following Table 6 and the Note following Table 7.

Appendix F to Part 112 [Amended]

5. Amend appendix F to part 112 by revising “fax 267-4085/4065” to read “fax (202) 267-4085” in section 1.8.3.

[FR Doc. 01-16294 Filed 6-28-01; 8:45 am]

BILLING CODE 6560-50-P